DEPARTMENT OF HEALTH AND HUMAN SERVICES

Administration for Children and Families

Proposed Information Collection Activity; Comment Request

Proposed Project

Title: Community-Based Abstinence Education Program (CBAE) Common Grant Guidance for Discretionary Grants.

OMB No.: 0970-0272.

Description: The discretionary funding Community-Based Abstinence Education Program (CBAE) is authorized by Title XI, Section 1110, of the Social Security Act (using the definitions contained in Title V, Section 510(b)(2) of the Act).

The CBAE Program Announcement requests basic application information that will be used to establish applicant eligibility, determine each applicant's capability, review and evaluate applicant proposals, and make grant awards.

Respondents: Faith-Based and Community Organizations (FBCOs), schools/school districts, universities/colleges, hospitals, public health agencies, local governments, Tribal Councils, small businesses/for-profit entities, housing authorities, etc.

Annual Burden Estimates
Instrument | Number of respondents | Number of responses per respondent | Average burden hours per response | Total burden hours
Community-Based Abstinence Education Program Announcement | 400 | 1 | 9 | 3,600

Estimated Total Annual Burden Hours 3,600.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: February 9, 2006.
Robert Sargis,
Reports Clearance Officer.

[FR Doc. 06-1402 Filed 2-14-06; 8:45 am]

BILLING CODE 4184-01-M